DEPARTMENT OF THE TREASURY

Financial Crimes Enforcement Network

Proposed Collection; Comment Request

AGENCY: Financial Crimes Enforcement Network (FinCEN), Treasury.

ACTION: Notice and request for comments.

SUMMARY: As part of its continuing effort to reduce paperwork and respondent burden, FinCEN invites the general public and other Federal agencies to comment on a proposed information collection contained in a new form, “Registration of Money Services Business.” The form will be used by check cashers, currency exchangers, money order and traveler's check businesses, and money transmitters to register with the Department of the Treasury as required by statute. This request for comments is being made pursuant to the Paperwork Reduction Act of 1995, Public Law 104-13 (44 U.S.C. 3506(c)(2)(A)).

DATES: Written comments should be received on or before December 11, 2000 to be assured of consideration.

ADDRESSES: Direct all written comments to: Office of Chief Counsel, Financial Crimes Enforcement Network, Department of the Treasury, Suite 200, 2070 Chain Bridge Road, Vienna, VA 22182-2536, Attention: PRA Comments—Registration of Money Services Business. Comments also may be submitted by electronic mail to the following Internet address: “regcomments@fincen.treas.gov” with the caption in the body of the text, “Attention: PRA Comments—Registration of Money Services Business.”

FOR FURTHER INFORMATION CONTACT: Requests for additional information should be directed to Eileen Mayer, Special Assistant to the Director, (202) 354-6400, or Cynthia Clark, Deputy Chief Counsel, FinCEN, and Christine Schuetz, Attorney-Advisor, FinCEN, at 703-905-3590. A copy of the form may be obtained through the Internet at http://www.treas.gov/fincen.

SUPPLEMENTARY INFORMATION: Title: Registration of Money Services Business.

OMB Number: Unassigned.

Form Number: TD F 90-22.55.

Abstract: 31 U.S.C. 5330, a part of the Bank Secrecy Act,¹ requires money services businesses to register with the Department of the Treasury and maintain a list of their agents.² Money services businesses include certain (i) check cashers, (ii) currency exchangers, (iii) issuers, sellers, and redeemers of money orders, (iv) issuers, sellers, and redeemers of traveler's checks, and (v) money transmitters. See 31 CFR 103.11(uu).

¹ The Bank Secrecy Act, Titles I and II of Pub. L. 91-508, as amended, codified at 12 U.S.C. 1829b, 12 U.S.C. 1951-1959, and 31 U.S.C. 5311-5330, authorizes the Secretary of the Treasury, inter alia, to issue regulations requiring records and reports that are determined to have a high degree of usefulness in criminal, tax, and regulatory matters. Regulations implementing Title II of the Bank Secrecy Act (codified at 31 U.S.C. 5311-5330) appear at 31 CFR part 103. The authority of the Secretary to administer Title II of the Bank Secrecy Act has been delegated to the Director of FinCEN.

² Section 5330 was added to the Bank Secrecy Act by section 408 of the Money Laundering Suppression Act of 1994, Title IV of the Riegle Community Development and Regulatory Improvement Act of 1994, Public Law 103-325 (September 23, 1994).

On August 20, 1999, the Department of the Treasury issued a final rule regarding the registration of money services businesses (64 FR 4538). Under the final rule, money services businesses must register with the Department of the Treasury and renew their registration every two years. 31 CFR 103.41. Registration will be made by filing a new form TD F 90-22.55, Registration of Money Services Business. Agents of money services businesses are not required to register regardless of the dollar volume of their money services activities unless they engage in money service activities both on their own behalf and as an agent of others.

The information collected on the new form is required to comply with 31 U.S.C. 5330 and its implementing regulations. The information will be used to assist supervisory and law enforcement agencies in the enforcement of criminal, tax, and regulatory laws and to prevent money services businesses from use by those engaging in money laundering. The collection of information is mandatory.

Money services businesses are advised that the draft form that appears at the end of this notice is presented only for purposes of soliciting public comment on the form. They should not try to use the draft form to register with Treasury. A final version of the form will be made available at a later date to be used for registration.

Type of Review: New information collection.

Affected Public: Business or other for-profit institutions.

Estimated Number of Respondents: 8500.

Estimated Total Annual Responses: 8500.³

³ The estimated number of responses is for the year in which a registration form must be filed; because the form is generally required to be filed only every other year, the estimated annual number of responses would be lower.

Estimated Total Annual Burden Hours: Reporting average of 30 minutes per response; recordkeeping average of 15 minutes per response. Estimated total annual burden hours: Reporting burden of 4250 hours; recordkeeping burden of 2125 hours, for an estimated combined total of 6375 hours.⁴

⁴ The estimated burden is for the year in which a registration form must be filed; because the form is generally required to be filed only every other year, the estimated annual burden would be lower.

An agency may not conduct or sponsor, and a person is not required to respond to, a collection of information unless the collection of information displays a valid OMB control number. Records required to be retained under the Bank Secrecy Act must be retained for five years. Generally, information collected pursuant to the Bank Secrecy Act is confidential, but may be shared as provided by law with regulatory and law enforcement authorities.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: September 29, 2000.
James F. Sloan,
Director, Financial Crimes Enforcement Network.

Attachment: Registration of Money Services Business Form TD F 90-22.55

BILLING CODE 4820-03-P

[FR Doc. 00-25950 Filed 10-6-00; 8:45 am]

BILLING CODE 4820-03-C